DEPARTMENT OF COMMERCE

National Oceanic and Atmospheric Administration

[I.D. 082306C]

Pacific Fishery Management Council; Public Meeting/Workshop

AGENCY: National Marine Fisheries Service (NMFS), National Oceanic and Atmospheric Administration (NOAA), Commerce.

ACTION: Notice of a public meeting.

SUMMARY: NOAA Fisheries and The Pacific Fishery Management Council (Council) will hold a workshop to discuss the comparability of pre-recruit data collected from two existing west coast surveys and to evaluate methods for utilizing those data in groundfish assessments.

DATES: The Pre-recruit Survey workshop will be held Wednesday, September 13, 2006 through Friday, September 15, 2006. The workshop will start at 8:30 a.m. each day and end at 5 p.m. on Wednesday and Thursday and 12 noon on Friday, or as necessary to complete business.

ADDRESSES: The Pre-recruit Survey workshop will be held at the Southwest Fisheries Science Center, 110 Shaffer Road, Santa Cruz, CA 95060.

Council address: Pacific Fishery Management Council, 7700 NE Ambassador Place, Suite 101, Portland, OR 97220-1384.

FOR FURTHER INFORMATION CONTACT: Ms. Stacey Miller, Northwest Fisheries Science Center (NWFSC); telephone: (206) 860-3480; or Mr. John DeVore, Pacific Fishery Management Council; telephone: (503) 820-2280.

SUPPLEMENTARY INFORMATION: The workshop discussion will be guided by the following four questions: (1) Can data from the R/V David Starr Jordan and the F/V Excalibur be combined into a coast-wide index for young-of-the-year Pacific whiting and rockfish; (2) Is a power transformation an acceptable way of modeling these processes and, if not, what other analytical techniques are more appropriate; (3) What processes affect the relationship between a survey index of pre-recruit abundance and model estimates of recruitment; and (4) How influential are pre-recruit survey data on historical estimated time-series of stock abundance and projections into the near term and how can the informational value of a pre-recruit survey to a stock assessment be evaluated?

All participants are encouraged to pre-register for the workshop by contacting Ms. Stacey Miller, Northwest Fisheries Science Center (NWFSC) by phone at (206) 860-3480 or by email at Stacey.Miller@noaa.gov.

Although non-emergency issues not contained in the meeting agenda may come before the workshop participants for discussion, those issues may not be the subject of formal workshop action during this meeting. Workshop action will be restricted to those issues specifically listed in this notice and any issues arising after publication of this notice that require emergency action under section 305c) of the Magnuson-Stevens Fishery Conservation and Management Act, provided the public has been notified of the workshop participants' intent to take final action to address the emergency.

Special Accommodations

This meeting is physically accessible to people with disabilities. Requests for sign language interpretation or other auxiliary aids should be directed to Ms. Carolyn Porter at (503) 820-2280 at least 5 days prior to the meeting date.

Dated: August 23, 2006.
Tracey L. Thompson,
Acting Director, Office of Sustainable Fisheries, National Marine Fisheries Service.

[FR Doc. E6-14226 Filed 8-25-06; 8:45 am]

BILLING CODE 3510-22-S